DEPARTMENT OF TRANSPORTATION

Federal Aviation Administration

Office of Commercial Space Transportation; Notice of Availability of the Final Environmental Assessment (Final EA), Finding of No Significant Impact (FONSI), and Record of Decision (ROD) for the Houston Spaceport, City of Houston, Harris County, Texas

AGENCY: Federal Aviation Administration (FAA), Department of Transportation.

ACTION: Notice of Availability of the Final EA and FONSI/ROD.

SUMMARY: In accordance with the National Environmental Policy Act of 1969, as amended (NEPA; 42 United States Code 4321 et seq.), Council on Environmental Quality NEPA implementing regulations (40 Code of Federal Regulations parts 1500 to 1508), and FAA Order 1050.1E, Change 1, Environmental Impacts: Policies and Procedures, the FAA is announcing the availability of the Final EA and FONSI/ROD for the Houston Spaceport.

FOR FURTHER INFORMATION CONTACT: Mr. Daniel Czelusniak, Office of Commercial Space Transportation, Federal Aviation Administration, 800 Independence Ave. SW., Suite 325, Washington DC 20591; phone (202) 267-5924; or email Daniel.Czelusniak@faa.gov.

SUPPLEMENTARY INFORMATION: The Final EA was prepared to analyze the potential environmental impacts of Houston Airport System's (HAS's) proposal to establish and operate a commercial space launch site at the Ellington Airport (EFD), in Houston, Texas and offer the site to prospective commercial space launch operators for the operation of horizontal take-off and horizontal landing Concept X and Concept Z reusable launch vehicles (RLVs). To operate a commercial space launch site, HAS must obtain a commercial space launch site operator license from the FAA. Under the Proposed Action addressed in the Final EA, the FAA would: (1) Issue a launch site operator license to HAS for the operation of a commercial space launch site at EFD; (2) issue launch licenses to prospective commercial space launch operators that would allow them to conduct launches of horizontal take-off and horizontal landing Concept X and Concept Z RLVs from EFD, and (3) provide unconditional approval to the Airport Layout Plan (ALP) modifications that reflect the designation of a spaceport boundary and construction of planned spaceport facilities and infrastructure. Proposed launch operations would begin in 2015 and continue through 2019 in accordance with the terms of the launch site operator license. HAS proposes to provide RLV operators the ability to conduct up to 50 launches and landings (or 100 operations) per year, with approximately five percent of the operations expected to occur during night-time hours.

The Final EA addresses the potential environmental impacts of implementing the Proposed Action and the No Action Alternative. Under the No Action Alternative, the FAA would not issue a launch site operator license to HAS, and thus no launch licenses would be issued to individual commercial space launch vehicle operators to operate at EFD. Also, there would be no need to update the EFD ALP, and thus there would be no FAA approval of a revised ALP. Existing operations would continue at EFD, which is currently classified as a general aviation reliever airport.

The environmental impact categories considered in the Final EA include air quality; climate; coastal resources; compatible land use; Department of Transportation Act: Section 4(f); fish, wildlife, and plants; floodplains; hazardous materials, pollution prevention, and solid waste; historical, architectural, archaeological, and cultural resources; light emissions and visual impacts; natural resources and energy supply; noise; socioeconomics, environmental justice, and children's environmental health and safety risks; water quality; and wetlands. The Final EA also considers the potential secondary (induced) impacts and cumulative impacts.

The FAA has posted the Final EA and FONSI/ROD on the FAA Office of Commercial Space Transportation Web site: http://www.faa.gov/about/office_org/headquarters_offices/ast/environmental/nepa_docs/review/operator/.

The FAA published a Notice of Availability (NOA) of the Draft EA in the Federal Register on December 31, 2014. The NOA was also published in the Houston Chronicle on January 7, 2015, and in the Bay Area Citizen, Pasadena Citizen, Friendswood Journal, and Pearl Journal on January 8, 2015. An electronic version of the Draft EA was also made available on the FAA Web site. In addition, the FAA printed and mailed a copy of the Draft EA to the following libraries: Clear Lake City-County Freeman Branch Library, Friendswood Public Library, Alvin Library, Hitchcock Public Library, and Reagan County Library. The FAA held an open house public meeting on January 22, 2015 from 5:30 p.m. to 8:30 p.m. at the Space Center Houston, Silvermoon Conference Room. The public comment period ended on January 31, 2015. Public comments on the Draft EA resulted in minor changes to the EA.

Issued in Washington, DC on June 24, 2015.
Daniel Murray,
Manager, Space Transportation Development Division.

[FR Doc. 2015-16464 Filed 7-2-15; 8:45 am]

BILLING CODE 4910-13-P